DEPARTMENT OF THE INTERIOR

Bureau of Land Management

[MT-924-1430-ET; SDM 80731]

Cancellation of Proposed Withdrawal; SD

AGENCY: Bureau of Land Management, Interior.

ACTION: Notice.

SUMMARY: The United States Department of Agriculture, Forest Service, has canceled its application to withdraw 2 acres of National Forest System land for protection of the Spokane Mine and millsite. The temporary segregative effect of the application expired March 5, 1994, and the land was opened to location and entry under the United States mining laws, subject to other segregations of record. The land has been and remains open to all other uses which may by law be made of National Forest System lands.

EFFECTIVE DATE: August 28, 2000.

FOR FURTHER INFORMATION CONTACT: Sandra Ward, Bureau of Land Management, Montana State Office, P.O. Box 36800, Billings, Montana 59107, 406-896-5052.

SUPPLEMENTARY INFORMATION: A Notice of Proposed Withdrawal was published in the Federal Register March 5, 1992 (57FR7936). This action will cancel the proposed withdrawal. The land is described as follows:

Black Hills Meridian

Black Hills National Forest

(A 2-acre parcel within the following described land):

T. 2 S., R. 6 E.,

Sec. 26, S½N½SW¼SW¼SW¼ and N½S½SW¼SW¼SW¼.

The area described contains approximately 2 acres in Custer County.

The segregative effect associated with the application terminated March 5, 1994, in accordance with the notice published as FR Doc. 94-1512 in the Federal Register (59FR3558) dated January 24, 1994.

Dated: August 15, 2000.
Thomas P. Lonnie,
Deputy State Director, Division of Resources.

[FR Doc. 00-21831 Filed 8-25-00; 8:45 am]

BILLING CODE 4310-$$-P